DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2009, there were six applications approved. This notice also includes information on one application, approved in May 2006, inadvertently left off the May 2006 notice. Additionally, 12 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Craven County Regional Airport Authority, New Bern, North Carolina.

Application Number: 06-03-C-00-EWN.

Application Type: Impose and use a PFC.

PFC Level: $4.50.

Total PFC Revenue Approved in this Decision: $518,877.

Earliest Charge Effective Date: November 1, 2024.

Estimated Charge Expiration Date: October 1, 2025.

Class of Air Carriers Not Required to Collect PFC'S:

None.

Brief Description of Projects Approved for Collection and Use:

Acquire land, Temple tract.

Acquire snow and foreign object debris removal equipment.

Conduct airport master plan study.

High speed connector taxiway and taxiway K extension to taxiway I.

Expand general aviation apron.

Install glide slope.

Remove obstructions, runway 4 clearing.

Improve airport drainage.

Rehabilitate runway.

Remove obstructions, runway 13/31.

Rehabilitate general aviation apron.

Install runway vertical/visual guidance.

Improve airport drainage.

Acquire land, Sechrist property.

Security camera.

Security fencing.

Badge security equipment.

Security truck.

Construct service road.

Extend runway 13 safety area.

Expand apron.

Expand building.

Install emergency generator.

Extend taxiway.

Construct perimeter road.

Aircraft rescue and firefighting garage.

Aircraft rescue and firefighting vehicle.

Air traffic control tower radios and equipment.

Remove obstructions.

Update airport master plan study.

Rehabilitate taxiway.

Acquire friction measuring equipment.

Improve airport drainage (planning).

PFC audit and administration cost.

Decision Date: May 11, 2006.

For Further Information Contact: Lloyd Nealis, Atlanta Airports District Office, (404) 305-7142.

Public Agency: Spokane Airport Board, Spokane, Washington.

Application Number: 09-07-U-00-GEG.

Application Type: Use PFC revenue.

PFC Level: $4.50.

Total PFC Revenue Approved for Use in this Decision: $23,000,000.

Charge Effective Date: December 1, 2007.

Estimated Charge Expiration Date: April 1, 2012.

Class of Air Carriers Not Required to Collect PFC's:

No change from previous decision.

Brief Description of Projects Approved for Use at a $4.50 PFC Level:

Construction of runway 03 extension.

Decision Date: April 7, 2009.

For Further Information Contact: Trang Tran, Seattle Airports District Office, (425) 227-1662.

Public Agency: Salt Lake City Department of Airports, Salt Lake City, Utah.

Application Number: 09-11-C-00-SLC.

Application Type: Impose and use a PFC.

PFC Level: $4.50.

Total PFC Revenue Approved in this Decision: $68,334,400.

Earliest Charge Effective Date: February 1, 2010.

Estimated Charge Expiration Date: January 1, 2012.

Class of Air Carriers Not Required to Collect PFC's:

Air taxi/commercial operators filing or required to file FAA Form 1800-31.

Determination: Approved. Based on information submitted in the public agency's application, the FAA has determined that the proposed class accounts for less than 1 percent of the total annual enplanements at Salt Lake City International Airport.

Brief Description of Projects Approved for Collection and Use at a $4.50 PFC Level:

Runway 16R/34L storm drain improvements.

Airfield lighting upgrade to 5-step regulators.

Taxiway H reconstruction (H4 to H7).

Concourse apron rehabilitation, phase II (C-D apron).

Federal Inspection Services facility remodel.

International terminal modifications (baggage re-check).

End of runway deicing program, phase I.

Brief Description of Project Approved for Collection and Use at a $3.00 PFC Level:

Potable water cabinets.

Brief Description of Projects Partially Approved for Collection and Use at a $3.00 PFC Level:

Winter operations equipment.

Determination: The FAA determined that two of the proposed vehicles, pickup trucks with utility bodies, were intended for airfield maintenance and, thus, were ineligible.

Cooling tower and chiller upgrade.

Determination: The FAA determined that this equipment serves both eligible and ineligible areas of the passenger terminal. The PFC approval is limited to the eligible share of the terminal, 76 percent.

Terminal 1 air handler replacement.

Determination: The FAA determined that this equipment serves both eligible and ineligible areas of the passenger terminal. The PFC approval is limited to the eligible share of the terminal, 81 percent.

Decision Date: April 10, 2009.

For Further Information Contact: Chris Schaffer, Denver Airports District Office, (303) 342-1258.

Public Agency: Kenton County Airport Board, Cincinnati, Ohio.

Application Number: 09-12-C-00-CVG.

Application Type: Impose and use a PFC.

PFC Level: $3.00.

Total PFC Revenue Approved in this Decision: $27,499,000.

Earliest Charge Effective Date: August 1, 2012.

Estimated Charge Expiration Date: September 1, 2014.

Classes of Air Carriers Not Required to Collect PFC's:

(1) Part 121 supplemental operators, which operate at the airport without an operating agreement with the Kenton County Airport Board and enplane less than 1,500 passengers per year; and (2) Part 135 on-demand air taxis, both fixed wing and rotary.

Determination: Approved. Based on information submitted in the public agency's application, the FAA has determined that each proposed class accounts for less than 1 percent of the total annual enplanements at Cincinnati/Northern Kentucky International Airport.

Brief Description of Projects Approved for Collection and Use:

Terminal 2 flight information display system and information technology upgrades to terminal 2 common use gates.

Upgrade security access control system.

Apron/taxi lanes pavement rehabilitation—phase 3.

In-line baggage handling system and improvements at concourse B.

Terminal 2 reconfiguration for secure hold rooms.

Pavement management system administration.

Terminal 2 passenger loading bridges—phase 2.

Restroom rehabilitation and improvements, terminal 2, concourses A and B.

South aircraft rescue and firefighting pavement removal and replacement.

PFC program administrative costs—1994 through 2012.

Concourse A loading bridges—phase 1.

Gate electrification—Fiscal Year 2009—phase 1.

Video recording system.

Apron/taxi lanes pavement rehabilitation—phase 4.

Decision Date: April 15, 2009.

For Further Information Contact: Cynthia Wills, Memphis Airports District Office, (901) 322-8190.

Public Agency: Monterey Peninsula Airport District, Monterey, California.

Application Number: 09-14-C-00-MRY.

Application Type: Impose and use a PFC.

PFC Level: $4.50.

Total PFC Revenue Approved in This Decision: $854,823.

Earliest Charge Effective Date: August 1, 2009.

Estimated Charge Expiration Date: August 1, 2010.

Classes of Air Carriers Not Required To Collect PFC'S:

(1) Nonscheduled/on-demand air carriers filing FAA Form 1800-31; and (2) commuters or small certificated air carriers filing Department of Transportation Form T-100.

Determination: Approved. Based on information submitted in the public agency's application, the FAA has determined that each proposed class accounts for less than 1 percent of the total annual enplanements at Monterey Peninsula Airport.

Brief Description of Projects Approved for Collection and Use:

Residential soundproofing, phase XIII.

Runway safety area environmental, phases I and II.

Airfield pavement improvements, phases II and III.

Flight information display system and access information equipment and services. Airport access and road safety/security design.

Brief Description of Project Approved for Collection: Runway safety area design.

Decision Date: April 23, 2009.

For Further Information Contact: Gretchen Kelly, San Francisco Airports District Office, (650) 876-2778, extension 623.

Public Agency: City of Morgantown, West Virginia.

Application Number: 09-07-C-00-MGW.

Application Type: Impose and use a PFC.

PFC Level: $4.50.

Total PFC Revenue Approved in This Decision: $663,774.

Earliest Charge Effective Date: June 1, 2009.

Estimated Charge Expiration Date: January 1, 2026.

Class of Air Carriers Not Required To Collect PFC'S:

None.

Brief Description of Projects Approved for Collection and Use:

Acquire security equipment.

Extend taxiway A.

Improve runway safety area (design/construct).

Acquire safety equipment.

Security enhancements.

Acquire equipment.

Design and construct snow removal equipment/maintenance building.

Security cameras.

Snow removal equipment.

Construct deicing containment facility.

Rehabilitate terminal apron.

Improve snow removal equipment building.

Install taxiway lighting.

Install apron lighting.

Conduct airport master plan study.

Rehabilitate south apron.

Improve airport drainage.

Improve terminal building.

Acquire aircraft rescue and firefighting vehicle.

Install perimeter fence.

PFC application and administration.

Decision Date: April 27, 2009.

For Further Information Contact: Matthew DiGiulian, Beckley Airports Field Office, (304) 252-6217.

Public Agency: City of Rapid City, South Dakota.

Application Number: 09-06-C-00-RAP.

Application Type: Impose and use a PFC.

PFC Level: $4.50.

Total PFC Revenue Approved in This Decision: $2,595,348.

Earliest Charge Effective Date: June 1, 2009.

Estimated Charge Expiration Date: November 1, 2011.

Class of Air Carriers Not Required To Collect PFC'S: Air taxi/commercial operators filing FAA Form 1800-31.

Determination: Approved. Based on information submitted in the public agency's application, the FAA has determined that the proposed class accounts for less than 1 percent of the total annual enplanements at Rapid City Regional Airport.

Brief Description of Projects Approved for Collection and Use:

Baggage system improvements.

Acquire snow removal equipment vehicles.

New aircraft rescue and firefighting station.

Electrical vault and communication center.

Taxiway A relocation/apron/service.

PFC application and administration.

Decision Date: April 28, 2009.

For Further Information Contact: Thomas Schauer, Bismarck Airports District Office, (847) 294-7674.

Amendments to PFC Approvals
Amendment No. city, state | Amendment approved date | Original approved net PFC revenue | Amended approved net PFC revenue | Original estimated charge exp. date | Amended estimated charge exp. date
04-09-C-04-CRW Charleston, WV | 04/01/09 | $7,719,526 | $9,719,526 | 09/01/11 | 03/01/13
93-02-C-01-MCO Orlando, FL | 04/02/09 | 9,957,000 | 5,140,005 | 04/01/95 | 04/01/95
94-02-C-06-MGW Morgantown, WV | 04/03/09 | 130,344 | 130,344 | 10/01/99 | 10/01/99
96-03-C-03-MGW Morgantown, WV | 04/03/09 | 18,450 | 935 | 02/01/02 | 02/01/02
97-04-U-01-MGW Morgantown, WV | 04/03/09 | NA | NA | 10/01/99 | 10/01/99
99-05-C-02-MGW Morgantown, WV | 04/03/09 | 192,739 | 93,771 | 06/01/04 | 06/01/04
*93-01-l-02-LRD Laredo, TX | 04/08/09 | 6,303,839 | 6,303,839 | 07/01/10 | 01/01/13
04-05-C-04-LBB Lubbock, TX | 04/08/09 | 5,280,392 | 4,168,971 | 08/01/07 | 08/01/07
02-06-C-01-MGW Morgantown, WV | 04/13/09 | 506,680 | 506,680 | 03/01/08 | 03/01/08
02-02-C-01-ABQ Albuquerque, NM | 04/20/09 | 44,483,079 | 41,844,635 | 12/01/07 | 09/01/08
06-06-C-01-GRK Killeen, TX | 04/20/09 | 2,713,561 | 2,780,476 | 03/01/10 | 03/01/10
95-01-C-01-PPG Pago Pago, AS | 04/23/09 | 1,236,306 | 950,000 | 06/01/00 | 06/01/00

Note: The amendment denoted by an asterisk (*) includes a change to the PFC level charged from $3.00 per enplaned passenger to $4.50 per enplaned passenger. For Laredo, TX, this change is effective on June 1, 2009.

Issued in Washington, DC on July 16, 2009.
Joe Hebert,
Manager, Financial Analysis and Passenger Facility Charge Branch.

[FR Doc. E9-17581 Filed 7-23-09; 8:45 am]

BILLING CODE 4910-13-M